DEPARTMENT OF COMMERCE

International Trade Administration

AI-Enabled Medical Technologies Industry Roundtable

AGENCY: International Trade Administration, Department of Commerce.

ACTION: Notice.

SUMMARY: The International Trade Administration (ITA) of the Department of Commerce announces a roundtable discussion with industry representatives and U.S. government officials on strategies to increase U.S. industry competitiveness and support commercialization of U.S.-produced artificial intelligence (AI)-enabled medical technologies. ITA invites applications from industry representatives to participate in the roundtables. Applicants should be existing producers/providers or prospective new market entrants in the AI-enabled medical technology sector with solutions that are or will be produced or developed in the United States and exported overseas.

DATES:

Event: The roundtable will be held on Wednesday, October 30, 2024, from 2:30 p.m. to 4:30 p.m., Eastern Daylight Time.

Event Registration: ITA will evaluate registrations based on the submitted information (see below) and inform applicants of selection decisions, which will be made on a rolling basis until a maximum of 20 participants have been selected.

ADDRESSES:

Event: The roundtable will be held via Microsoft Teams, and the link for the meeting will be provided to selected and registered participants.

FOR FURTHER INFORMATION CONTACT: Liam Kraft at 771-216-4432 or via email at HealthAI@trade.gov.

SUPPLEMENTARY INFORMATION: AI is anticipated to yield significant growth opportunities for the healthcare sector. With AI regulation and policy formation still nascent in many markets, it is important to understand the implications of changes in these areas for U.S. healthcare industry stakeholders as governments, practitioners, and patients increasingly adopt AI solutions in healthcare and as demand for AI-enabled medical technologies grows in overseas markets. This discussion will help position ITA to work with U.S. industry stakeholders in ways that can enhance U.S. industry competitiveness in overseas markets and reduce current or future trade barriers faced by companies in this space.

The Department seeks individual input and views at the 10/30/2024 roundtable regarding overseas competitiveness of U.S. companies producing, or planning to produce, and exporting AI-enabled medical technologies. Participants will be encouraged to provide any relevant feedback on this issue during the roundtable, which may include comments on the following non-exhaustive list of possible topics:

• With the introduction of technologies such as foundational models and general-purpose AI, what are the implications of regulatory and policy shifts in markets to which your company exports AI-enabled medical technologies, and how have these changes affected your company's competitiveness?

• Which markets, given shifting regulatory and policy landscapes, present the most conducive environment for the competitiveness of U.S. AI-enabled medical technologies, from your experience?

• How do you assess the potential for public-private partnerships (P3s) to support efforts in the healthcare sector to deliver AI-enabled medical technologies to overseas markets? What would a successful P3 in this space look like? What kind of resources are needed from the U.S. Government to enable this success?

• What kinds of strategic international engagements do you believe would be most effective in supporting U.S. providers of AI-enabled medical technologies and their competitiveness in overseas markets?

• What kinds of trade barriers are you seeing negatively affect U.S. competitiveness for AI-enabled medical technologies in overseas markets? Where do you encounter these barriers? How do you think the barriers can be reduced, removed, or prevented?

○ What are the implications of regulations/policies around health data in foreign markets for U.S. competitiveness in AI-enabled medical technologies that you're seeing in your work?

The event is closed to press and the public. Industry participation is limited to a maximum of 20 qualifying industry representatives.

Selection

To attend, participants should submit the below information to HealthAI@trade.gov by no later than 10/23/2024. ITA will evaluate registrations based on the submitted information (and based on the criteria below) on a rolling basis until a maximum of 20 participants have been selected and inform applicants of selection decisions.

Applicants are encouraged to send representatives at a sufficiently senior level to be knowledgeable about their company's capabilities, interests, and challenges in the global market of AI-enabled medical technologies. Due to time constraints, there is a limit of one person to speak on behalf of each company.

Applicants should include the following information in their response email:

• Name of attendee and short bio.

• Name of company and brief company description.

• A statement self-certifying how the company meets each of the following criteria:

1. It is not majority owned by a foreign government entity (or entities).

2. It is an existing provider or prospective new market entrant, of AI-enabled medical technologies that are or will be produced in the United States in one or more of the following segments: Machine learning, natural language processing, clinical, disease detection, medical imaging, personalized care, patient monitoring, robotics, or healthcare administration.

3. The representative will be able to attend the entire roundtable.

Selection will be based on the following criteria:

• The company's production or production plans with respect to AI-enabled medical technologies.

• The company's experience in exporting AI-enabled medical technologies from the United States to overseas markets.

• Suitability of the representative's position and biography to be able to engage in the conversation.

• Ability of the company to contribute to the roundtable's purpose of seeking individual input and views on policies and initiatives that strengthen U.S. industry competitiveness of U.S. exports.

Dated: August 20, 2024.
Amanda Lawrence,
Acting Director, Office of Health Industries, International Trade Administration.

[FR Doc. 2024-19040 Filed 8-26-24; 8:45 am]

BILLING CODE 3510-DR-P